DEPARTMENT OF COMMERCE

National Oceanic and Atmospheric Administration

[RTID 0648-XA908]

Endangered and Threatened Species; Take of Anadromous Fish

AGENCY: National Marine Fisheries Service (NMFS), National Oceanic and Atmospheric Administration (NOAA), Commerce.

ACTION: Notice of intent to prepare an environmental impact statement.

SUMMARY: We, NMFS, intend to prepare an Environmental Impact Statement (EIS), in accordance with the requirements of the National Environmental Policy Act (NEPA), to analyze the potential impacts on the human (biological, physical, social, and economic) environment caused by the Western Oregon State Forests Habitat Conservation Plan (WOSF HCP) and a range of reasonable alternatives. The WOSF HCP is being prepared in support of a request for Endangered Species Act (ESA) incidental take permits (ITPs) authorizing incidental take of covered species by covered activities. We are also announcing the initiation of a public scoping period to engage Federal, Tribal, State, and local governments and the public in the identification of issues and concerns, potential impacts, and reasonable alternatives to the proposed action that meet the purpose and need for consideration in the draft EIS. The applicant for the ITPs is the Oregon Department of Forestry (ODF).

DATES: The NMFS requests comments concerning the scope of the analysis, and identification of relevant information, studies, and analyses. All comments must be received by April 7, 2021.

ADDRESSES: You may submit comments on this document, identified by NOAA-NMFS-2021-0019, by:

• Electronic Submission: Submit all electronic public comments via the Federal e-Rulemaking Portal. Go to https://www.regulations.gov and enter NOAA-NMFS-2021-0019 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The WOSF draft HCP is posted on the ODF website: https://www.oregon.gov/ODF/AboutODF/Pages/HCP-initiative.aspx.

FOR FURTHER INFORMATION CONTACT: Michelle McMullin, NMFS, 541-957-3378, Michelle.McMullin@noaa.gov.

SUPPLEMENTARY INFORMATION:

Purpose and Need for the Proposed Action

The purpose of ITP(s) issuance to ODF is to protect the covered species and their habitat while allowing the applicant to manage WOSF lands in compliance with the ESA. The need for the Federal action is to respond to the applicant's request for ITPs for the covered species and covered activities as described in the WOSF HCP. NMFS and the U.S. Fish and Wildlife Service (USWFS) will review the ITP applications to determine if they meet permit issuance criteria.

Preliminary Proposed Action and Alternatives

Under the proposed action, NMFS and USFWS would approve the WOSF HCP and issue ITPs with 70-year permit terms to the ODF for incidental take of covered species from covered activities in the plan area. The plan area includes all state forestlands west of the Cascade Range that are managed by ODF, a total of 733,695 acres (about 2969.16 km²). The permit area is defined as the portion of the plan area that ODF currently controls and where all covered activities would occur and conservation actions would apply. The covered activities are the projects and activities for which ODF is requesting take authorization. The covered activities include the ODF's forest and recreation management activities in the permit area as well as the activities needed to carry out ODF's proposed conservation strategy. Broad categories of covered activities include stand management, road system management, recreation infrastructure construction and maintenance, and HCP conservation actions. Covered species under the proposed WOSF HCP include threatened and endangered species listed under the ESA, and currently unlisted species that have the potential to become listed during the life of the HCP. Incidental take coverage is being sought by ODF for covered species. More information on covered activities and the species for which ODF is seeking incidental take coverage is provided in the draft HCP, available at https://www.oregon.gov/ODF/AboutODF/Pages/HCP-initiative.aspx.

We will consider the Proposed Action and the No Action Alternative as well as being open to considering what ideas the public may bring forward during the scoping process. We are using this process to seek alternatives, which may include, but are not limited to variation in the length of the permit term; adding or removing some of the covered species; the level of take allowed; the level, location, or type of minimization, mitigation, or monitoring provided under the HCP; the scope of covered activities; the location, amount or type of conservation, or similar aspects of the permit conditions.

Summary of Expected Impacts

Incidental take is expected to occur due to the covered activities under the proposed action. Expected impacts are less than what occurs under ODFs current timber/land management practices. ODF is proposing a conservation strategy as part of their HCP that is intended to fully offset the impacts of the take.

Anticipated Permits and Authorizations

The following permits, consultations, or other authorizations are anticipated to be required in order to proceed with issuance of the ITPs:

• ESA Section 7 consultations, ESA Section 10 Findings;

• Magnuson-Stevens Fishery Conservation and Management Act consultation;

• Tribal consultations; and

• National Historic Preservation Act with possible memorandum of agreement or other mechanism.

Schedule for the Decision-Making Process

Information on the proposed NEPA schedule can be found at: https://www.fisheries.noaa.gov/action/notice-intent-prepare-environmental-impact-statement-western-oregon-state-forest-habitat.

Public Scoping Process

This notice of intent initiates the scoping process, which guides the development of the EIS. NMFS is hosting a public webinar for informational purposes, including a question and answer session, within the scoping period. Information on the webinar date and time, and instructions for connecting or calling into the webinar will be posted at: https://www.fisheries.noaa.gov/action/notice-intent-prepare-environmental-impact-statement-western-oregon-state-forest-habitat. Accommodations for persons with disabilities are available; accommodation requests should be directed to Michelle McMullin at least 10 working days prior to the webinar.

Public comments will not be accepted during the webinar.

Request for Identification of Potential Alternatives, Information, and Analyses Relevant to the Proposed Action

The primary purpose of the scoping process is for the public to assist NMFS in developing the EIS. NMFS requests that the comments be specific. In particular, we request information regarding: Any science that is relevant and not yet incorporated, any interpretation of science that is different than what is presented; significant issues; identification of impacts that are not fully off-set; review and input regarding monitoring; possible alternatives that meet the purpose and need; effects or impacts to the human environment from the proposed action or alternatives; and potential terms and conditions that may minimize adverse effects, including time or area restrictions or both to reduce environmental impacts.

Lead and Cooperating Agencies

NMFS is the lead agency for the NEPA process. The USFWS is a cooperating agency in the NEPA process.

Nature of Decision To Be Made

If after publication of the Record of Decision we determine that all requirements are met for ITP issuance, the NMFS West Coast Regional Administrator will issue a decision on the requested ITP.

Authority: 42 U.S.C. 4321 et seq.; 40 CFR parts 1500-1508; and Companion Manual for NOAA Administrative Order 216-6A, 82 FR 4306.

Dated: February 25, 2021.
Angela Somma,
Chief, Endangered Species Division, Office of Protected Resources, National Marine Fisheries Service.

[FR Doc. 2021-04315 Filed 3-5-21; 8:45 am]

BILLING CODE 3510-22-P